DEPARTMENT OF TRANSPORTATION

Maritime Administration

[Docket No. MARAD-2002-13659]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before December 30, 2002.

FOR FURTHER INFORMATION CONTACT: Rita C. Jackson, Maritime Administration, 400 Seventh St., SW., Washington, DC 20590. Telephone: 202-366-5755; Fax 202-493-2288, or E-mail: rita.jackson@marad.dot.gov. Copies of this collection can also be obtained from that office.

SUPPLEMENTARY INFORMATION: Title of Collection: Maritime Administration Service Obligation Compliance Report and Merchant Marine Reserve, U.S. Naval Reserve Annual Report.

Type of Request: Extension of currently approved information collection.

OMB Control Number: 2133-0509.

Form Numbers: MA-930.

Expiration Date of Approval: Three years from the date of approval.

Summary of Collection of Information: The Maritime Education and Training Act of l980, imposes a service obligation on every graduate of the U.S. Merchant Marine Academy and every subsidized State maritime academy graduate who received a Student Incentive Payment. This mandatory service obligation is for the Federal financial assistance the graduate received as a student and requires the graduate to maintain a license as an officer in the merchant marine and to report on reserve status, training, and employment for applicable periods.

Need and Use of the Information: This information collection is necessary to determine if a graduate of the U.S. Merchant Marine Academy or subsidized State maritime academy graduate is complying with the terms of the service obligation for that year.

Description of Respondents: Graduates of the U.S. Merchant Marine Academy and every subsidized State Maritime academy graduate who received a Student Incentive Payment.

Annual Responses: 2300.

Annual Burden: 1150 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator.
Dated: October 23, 2002.
Joel C. Richard,
Secretary, Maritime Administration.

[FR Doc. 02-27425 Filed 10-28-02; 8:45 am]

BILLING CODE 4910-81-P